DEPARTMENT OF COMMERCE

International Trade Administration

[A-570-822]

Helical Spring Lock Washers From the People's Republic of China: Final Results of Antidumping Duty Administrative Review; 2012-2013

AGENCY: Enforcement and Compliance, International Trade Administration, Department of Commerce.

SUMMARY: On November 7, 2014, the Department of Commerce (the Department) published the preliminary results of the administrative review of the antidumping duty order on certain helical spring lock washers (HSLW) from the People's Republic of China (PRC).¹ The period of review (POR) is October 1, 2012, through September 30, 2013. For the final results, we continue to find that Jiangsu RC Import & Export Co., Ltd. (Jiangsu RC) made sales of subject merchandise at less than normal value. We also continue to find that Suzhou Guoxin Group Wang Shun Imp. and Exp. Co., Ltd. (Guoxin) is not eligible for a separate rate and remains part of the PRC-wide entity. Finally, we are not rescinding the review with respect to Winnsen Industry Co., Ltd. (Winnsen).

¹ See Helical Spring Lock Washers From the People's Republic of China: Preliminary Results of Antidumping Duty Administrative Review; 2012-2013, 79 FR 66356 (November 7, 2014) (Preliminary Results).

DATES: Effective Date: March 17, 2015.

FOR FURTHER INFORMATION CONTACT: Mary Kolberg or Sergio Balbontin, AD/CVD Operations, Office I, Enforcement and Compliance, International Trade Administration, Department of Commerce, 14th Street and Constitution Avenue NW., Washington, DC 20230; telephone: (202) 482-1785, (202) 482-6478, respectively.

SUPPLEMENTARY INFORMATION:

Background

On November 7, 2014, the Department published the Preliminary Results. We received case and rebuttal briefs with respect to the Preliminary Results. We conducted this administrative review in accordance with section 751 of the Tariff Act of 1930, as amended (the Act).

Scope of the Order

The merchandise subject to the order are HSLWs. The product is currently classified under subheading 7318.21.0000, 7318.21.0030, and 7318.21.0090 of the Harmonized Tariff Schedule of the United States (HTSUS). Although the HTSUS subheadings are provided for convenience and customs purposes, the written product description is dispositive. A full description of the scope of the order is contained in the Issues and Decision Memorandum, dated concurrently with and hereby adopted by this notice.²

² See Memorandum “Issues and Decision Memorandum for the Final Results of Antidumping Duty Administrative Review: Helical Spring Lock Washers From the People's Republic of China; 2012-2013” dated concurrently with and hereby adopted by this notice (Issues and Decision Memorandum).

Analysis of Comments Received

All issues raised in the case and rebuttal briefs by parties to this administrative review are addressed in the Issues and Decision Memorandum. A list of the issues raised is attached to this notice as an appendix. The Issues and Decision Memorandum is a public document and is on file electronically via Enforcement and Compliance's Antidumping and Countervailing Duty Centralized Electronic Service System (ACCESS).³ ACCESS is available to registered users at http://access.trade.gov. The Issues and Decision Memorandum is also available to all parties in the Central Records Unit, room 7046 of the main Department of Commerce building. In addition, a complete version of the Issues and Decision Memorandum can be accessed directly on the Enforcement and Compliance Web site at http://enforcement.trade.gov/frn. The signed and electronic versions of the Issues and Decision Memorandum are identical in content.

³ On November 24, 2014, Enforcement and Compliance changed the name of Enforcement and Compliance's AD and CVD Centralized Electronic Service System (IA ACCESS) to AD and CVD Centralized Electronic Service System (ACCESS). The Web site location was changed from http://iaaccess.trade.gov to http://access.trade.gov. The Final Rule changing the references to the regulations can be found at 79 FR 69046 (November 20, 2014).

Changes Since the Preliminary Results

Based on our analysis of comments received, we made revisions that have changed the results for Jiangsu RC. These changes include changes to the valuation of certain factors of production and calculation programming changes. For further details on the changes we made for these final results, see the Issues and Decision Memorandum.

PRC-Wide Rate and PRC-Wide Entity

For the Preliminary Results, the Department assigned to the PRC-wide entity the rate of 128.63 percent, the rate determined for the PRC-wide entity in this proceeding.⁴ Based on comments from interested parties in this administrative review, as discussed in the Issues and Decision Memorandum, we have calculated a final margin for Jiangsu RC of 192.88 percent, which is also the new rate for the PRC-wide entity.⁵

⁴ See Antidumping Duty Order: Certain Helical Spring Lock Washers From the People's Republic of China, 58 FR 53914 (October 19, 1993) and Amended Final Determination and Amended Antidumping Duty Order: Certain Helical Spring Lock Washers From the People's Republic of China, 58 FR 61859 (November 23, 1993).

⁵ See Issues and Decision Memorandum.

In the Preliminary Results, the Department determined that Guoxin, which ceased participating in this review, did not demonstrate its eligibility for a separate rate and, therefore, Guoxin is part of the PRC-wide entity. No party commented on this finding. For the final results, we have continued to treat Guoxin as part of the PRC-wide entity.

In the Preliminary Results we also determined that, while the request for review had been timely withdrawn for Winnsen, Winnsen did not have a separate rate prior to the Preliminary Results. Accordingly, the Department did not rescind the review with respect to Winnsen and it remained part of the PRC-wide entity, which remained under review.⁶ No party commented on this finding. For the final results, we continue to treat Winnsen as part of the PRC-wide entity.

⁶ See, e.g., Narrow Woven Ribbons With Woven Selvedge From the People's Republic of China: Preliminary Results and Partial Rescission of Antidumping Duty Administrative Review, 77 FR 47363, 47365 (August 8, 2012), unchanged in Narrow Woven Ribbons With Woven Selvedge From the People's Republic of China: Final Results of Antidumping Duty Administrative Review; 2010-2011, 78 FR 10130 (February 13, 2013). As noted in the Preliminary Results, a change in practice with respect to the conditional review of the PRC-wide entity is not applicable to this administrative review. See Antidumping Proceedings: Announcement of Change in Department Practice for Respondent Selection in Antidumping Duty Proceedings and Conditional Review of the Nonmarket Economy Entity in NME Antidumping Duty Proceedings, 78 FR 65964, 65969-70 (November 4, 2013).

Final Results of the Review

As a result of this administrative review, we determine that the following weighted-average dumping margins exist:

Exporter | Weighted- average dumping margin (percent)
Jiangsu RC Import & Export Co., Ltd. | 192.88
PRC-wide Rate | 192.88

Assessment

Pursuant to section 751(a)(2)(A) of the Act and 19 CFR 351.212(b), the Department shall determine, and U.S. Customs and Border Protection (CBP) shall assess, antidumping duties on all appropriate entries covered by this review. For customers or importers of Jiangsu RC for which we do not have entered value, we calculated customer-/importer-specific antidumping duty assessment amounts based on the ratio of the total amount of dumping duties calculated for the examined sales of subject merchandise to the total sales quantity of those same sales.⁷ For customers or importers of Jiangsu RC for which we received entered-value information, we have calculated customer/importer-specific antidumping duty assessment rates based on customer/importer-specific ad valorem rates in accordance with 19 CFR 351.212(b)(1).

⁷ See 19 CFR 351.212(b)(1).

The Department announced a refinement to its assessment practice in NME cases.⁸ Pursuant to this refinement in practice, for entries that were not reported in the U.S. sales databases submitted by companies individually examined during this review, including, in this case, Guoxin and Winnsen, the Department will instruct CBP to liquidate such entries at the revised PRC-wide rate of 192.88 percent. In addition, for companies for which the Department determined that the exporter under review had no shipments of the subject merchandise, any suspended entries that entered under that exporter's case number (i.e., at that exporter's rate) will be liquidated at the PRC-wide rate.

⁸ For a full discussion of this practice, see Non-Market Economy Antidumping Proceedings: Assessment of Antidumping Duties, 76 FR 65694 (October 24, 2011).

We intend to issue assessment instructions to CBP 15 days after the date of publication of the final results of review.

Cash Deposit Requirements

The following cash deposit requirements will be effective upon publication of these final results of review for all shipments of the subject merchandise from the PRC entered, or withdrawn from warehouse, for consumption on or after the publication date as provided by section 751(a)(2)(C) of the Act: (1) For subject merchandise exported by the companies listed above that have separate rates, the cash deposit rate will be the rate established in these final results of review for each exporter as listed above; (2) for previously investigated or reviewed PRC and non-PRC exporters not listed above that received a separate rate in a prior segment of this proceeding, the cash deposit rate will continue to be the exporter-specific rate; (3) for all PRC exporters of subject merchandise that have not been found to be entitled to a separate rate, the cash deposit rate will be that for the PRC-wide entity; (4) for all non-PRC exporters of subject merchandise which have not received their own rate, the cash deposit rate will be the rate applicable to the PRC exporter that supplied that non-PRC exporter. These deposit requirements shall remain in effect until further notice.

Notification

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

These final results of review are issued and published in accordance with sections 751(a)(1) and 777(i) of the Act.

Dated: March 9, 2015.
Ronald K. Lorentzen,
Acting Assistant Secretary for Enforcement and Compliance.

Appendix I

List of Topics Discussed in the Issues and Decision Memorandum

1. Summary

2. Background

3. Scope of the Order

4. Separate Rate/PRC-Wide Entity

5. Surrogate Country

6. Discussion of the Issues

Surrogate Values

Comment 1: Whether the Department Used the Correct Surrogate Value and/or Time

Period for Hot-Rolled Circular Silico-Manganese Steel Bar

Comment 2: Whether the Department's SAS Program Included a Value for Plywood

Comment 3: Whether the Department's SAS Program Properly Calculated TOTCOM

Financial Statements/Ratios

Comment 4: Whether the Department Should Use the Financial Statements of System 3

Comment 5: Whether the Department Should Use the Financial Statements of Mahajak Autoparts, and Hitech Fasteners

Comment 6: Whether the Department Should Adjust the Financial Ratio Calculations Based on the Financial Statements of Siam Anchor, System 3, and Bangkok

Fastenings

Value-Added Taxes

Comment 7: Whether the Department Should Continue to Deduct from U.S. Price Irrecoverable Value-Added Tax

7. Recommendation

[FR Doc. 2015-05957 Filed 3-16-15; 8:45 am]

BILLING CODE 3510-DS-P